DEPARTMENT OF LABOR

Employment and Training Administration

[TA-W-50,323]

Potlatch Corporation, Lewiston, ID; Notice of Termination of Investigation

Pursuant to Section 221 of the Trade Act of 1974, an investigation was initiated on December 12, 2002, in response to a worker petition which was filed by the Trade Act Coordinator of Idaho Department of Labor on behalf of workers at the Potlatch Corporation, Lewiston, Idaho.

The petitioner has requested that the petition be withdrawn. Consequently, and the investigation has been terminated.

Signed in Washington, DC, this 7th day of March 2003.
Richard Church,
Certifying Officer, Division of Trade Adjustment Assistance.

[FR Doc. 03-7200 Filed 3-25-03; 8:45 am]

BILLING CODE 4510-30-P